DEPARTMENT OF COMMERCE

National Oceanic and Atmospheric Administration

50 CFR Part 660

[Docket No. 240514-0137; RTID 0648-XE075]

Fisheries Off West Coast States; Modification of the West Coast Salmon Fisheries; Inseason Actions #1 Through #3

AGENCY: National Marine Fisheries Service (NMFS), National Oceanic and Atmospheric Administration (NOAA), Commerce.

ACTION: Inseason modification of 2024-2025 management measures.

SUMMARY: NMFS announces three inseason actions for the 2024-2025 ocean salmon fishing season. These inseason actions modify the commercial salmon troll fisheries in the area from the U.S./Canada border to the Oregon/California border.

DATES: The effective dates for these inseason actions are set out in this document under the heading “Inseason Actions” and the actions remain in effect until the dates identified or until superseded.

FOR FURTHER INFORMATION CONTACT: Anna Heeter, 425-606-1814, Anna.Heeter@noaa.gov.

SUPPLEMENTARY INFORMATION:

Background

The annual management measures for the 2024 and early 2025 ocean salmon fisheries (89 FR 44553, May 21, 2024) govern the commercial and recreational fisheries in the area from the U.S./Canada border to the U.S./Mexico border, effective from 0001 hours Pacific Daylight Time (PDT), May 16, 2024, until the effective date of the 2025 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The action described in this document affects the NOF commercial salmon troll fisheries and SOF recreational fisheries, as set out under the heading “Inseason Actions” below.

Consultation with the Council Chairperson on these inseason actions occurred on May 16, 2024, and on June 18, 2024. These consultations included representatives from NMFS, Washington Department of Fish and Wildlife, Oregon Department of Fish and Wildlife, and California Department of Fish and Wildlife. Representatives from the Salmon Advisory Subpanel and Salmon Technical Team were also present. A Council representative was present on May 16, 2024, and June 18, 2024.

These inseason actions were announced on NMFS' telephone hotline and U.S. Coast Guard radio broadcast on the date of the consultations (50 CFR 660.411(a)(2)).

Inseason Actions

Inseason Action #1

Description of the action: Inseason action #1 modifies the NOF ocean salmon troll commercial fishery from the U.S./Canada border to Cape Falcon, OR.

Effective dates: Inseason action #1 takes effect for the following areas and dates, and remains in effect until superseded.

• Effective 12:30 p.m. Thursday, May 16, 2024, for the ocean salmon troll commercial fishery, the landing and possession limit for the entire area between Cape Falcon and the U.S./Canada border is increased from 150 Chinook salmon per vessel per landing week (Thursday through Wednesday) to 225 Chinook salmon per vessel per landing week (Thursday through Wednesday).

• Effective 12:30 p.m. Thursday, May 16, 2024, for the ocean salmon troll commercial fishery, the landing and possession limit in the area between the U.S./Canada border and the Queets River is increased from 60 Chinook salmon per vessel per landing week (Thursday-Wednesday) to 70 Chinook salmon per vessel per landing week (Thursday through Wednesday).

• Effective 12:30 p.m. Thursday, May 16, 2024, for the ocean salmon troll commercial fishery, the landing and possession limit in the area between the Queets River and Leadbetter Point is increased from 150 Chinook salmon per vessel per landing week (Thursday through Wednesday) to 225 Chinook salmon per vessel per landing week (Thursday through Wednesday).

• Effective 12:30 p.m. Thursday, May 16, 2024, for the ocean salmon troll commercial fishery, the landing and possession limit in the area between Leadbetter Point and Cape Falcon is increased from 60 Chinook salmon per vessel per landing week (Thursday through Wednesday) to 80 Chinook salmon per vessel per landing week (Thursday through Wednesday).

Reason and authorization for the action: Due to lower than anticipated catch rates, this action will result in increased fishing interest and allow greater access to the quota for the area without exceeding it.

The NMFS West Coast Regional Administrator (RA) considered the 2024 abundance forecasts for Chinook salmon stocks, the timing of the actions relative to the length of the season, and determined that this inseason action is necessary to meet management and conservations goals for the 2024-2025 management measures. This inseason action modified quotas and/or fishing seasons under 50 CFR 660.409(b)(1)(i).

Inseason Action #2

Description of the action: Inseason action #2 modifies the SOF recreational ocean salmon fishery in the Klamath Management Zone (KMZ) between Humbug Mountain and the Oregon/California border. All salmon harvested in the recreational ocean salmon fishery between Humbug Mountain and the Oregon/California border through October 31, 2024, must be landed north of the Oregon/California border.

Effective dates: Inseason action #2 takes effect at 12:30 p.m. on Thursday, May 16, 2024, and remains in effect through October 31, 2024.

Reason and authorization for the action: The closure of commercial and recreational ocean salmon fisheries in California in 2024 presented a scenario in the KMZ between Humbug Mountain and Latitude 40°10′ N (California KMZ) where recreational fishing opportunity is open on the Oregon side of the KMZ but not on the California side of the KMZ, in order to protect California Chinook salmon and coho salmon. An enforcement concern was subsequently identified, in that the original 2024-2025 rules do not expressly prohibit landing salmon in the closed area. Allowing California vessels to land salmon in California would hinder enforcement efforts, as it might not be possible to determine whether landed fish were caught legally in Oregon or caught unlawfully within the closed area, thereby undermining the original intent of the closure. This inseason action clarifies that salmon may not be caught or landed within the closed area. With full closures in California there are not sufficient monitoring programs in place to adequately sample and estimate salmon landings brought into California from Oregon which could compromise managers ability to assess fishing impacts against conservation objectives. This inseason action would clarify that landing of salmon in California is prohibited to address the enforcement and monitoring concerns discussed above.

The RA considered port access issues and the need to monitor landings to assess fishing impacts, and determined that this inseason action was necessary to meet management and conservation objectives. These inseason action clarifies landing boundaries under 50 CFR 660.409(b)(1)(v).

Inseason Action #3

Description of the action: Inseason action #3 modifies the NOF commercial ocean salmon fishery. The area between the U.S./Canada border and Cape Falcon is closed.

Effective dates: Inseason action #3 takes effect at 11:59 p.m. on Wednesday, June 19, 2024, and remains in effect through June 30, 2024, at 11:59 p.m.

Reason and authorization for the action: Inseason action #3 is necessary to avoid exceeding the NOF quota for Chinook salmon. The RA considered the 2024 abundance forecasts for Chinook salmon stocks, the catch rates and anticipated effort relative to the remaining quota, and determined that this inseason action is necessary to meet management and conservations goals for the 2024-2025 management measures. This inseason action modifies fishing seasons under 50 CFR 660.409(b)(1)(i).

All other restrictions and regulations remain in effect as announced for the 2024 ocean salmon fisheries (89 FR 44553, May 21, 2024).

The states and tribes manage the fisheries in state waters adjacent to the areas of the U.S. exclusive economic zone (3-200 nautical miles; 5.6-370.4 kilometers) off the coasts of the States of Washington, Oregon, and California consistent with these Federal actions. As provided by the inseason notice procedures at 50 CFR 660.411, actual notice of the described regulatory actions was given, prior to the time the actions became effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook and coho salmon abundance, catch, and effort information were developed and fisheries impacts were calculated, and the time the fishery modifications had to be implemented in order to ensure that fisheries are managed based on the best scientific information available and consistent with the conservation objectives. As previously noted, actual notice of the regulatory action was provided to fishers through telephone hotlines and radio notifications. These actions comply with the requirements of the annual management measures for ocean salmon fisheries (88 FR 30235, May 11, 2023), the Pacific Salmon Fishery Management Plan (FMP), and regulations implementing the FMP under 50 CFR 660.409 and 660.411.

There is good cause under 5 U.S.C. 553(d)(3) to waive the 30-day delay in effective date, as a delay in effectiveness of this action would allow fishing at levels inconsistent with the goals of the FMP and the current management measures.

Authority: 16 U.S.C. 1801 et seq.

Dated: July 26, 2024.
Lindsay Fullenkamp,
Acting Director, Office of Sustainable Fisheries, National Marine Fisheries Service.

[FR Doc. 2024-16866 Filed 7-30-24; 8:45 am]

BILLING CODE 3510-22-P